DEPARTMENT OF HOMELAND SECURITY

Federal Emergency Management Agency

[Docket ID FEMA-2009-0001]

Agency Information Collection Activities: Proposed Collection; Comment Request; OMB No. 1660-NEW; Regional Catastrophic Preparedness Grant Program (RCPGP)

AGENCY: Federal Emergency Management Agency, DHS.

ACTION: Notice; 60-day notice and request for comments; new information collection; OMB No. 1660-NEW; FEMA Form 089-19, RCPGP Investment Justification Template; FEMA Form 089-26, RCGCP (Sample) Detailed Project Plan Template; FEMA Form 089-17, RCPT Membership List.

SUMMARY: The Federal Emergency Management Agency, as part of its continuing effort to reduce paperwork and respondent burden, invites the general public and other Federal agencies to take this opportunity to comment on a proposed new information collection. In accordance with the Paperwork Reduction Act of 1995, this Notice seeks comments concerning the Regional Catastrophic Preparedness Grant Program (RCPGP).

DATES: Comments must be submitted on or before January 19, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Wash, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Nicholas W. Peake, Planning Section Chief, National Preparedness Directorate, 202-786-9726 for additional information. You may contact the Records Management Branch for copies of the proposed collection of information at facsimile number (202) 646-3347 or e-mail address: FEMA-Information-Collections@dhs.gov.

SUPPLEMENTARY INFORMATION: The purpose of the Regional Catastrophic Preparedness Grant Program (RCPGP) is to enhance catastrophic incident preparedness in Tier 1 and selected Tier 2 Urban Areas. RCPGP is intended to support coordination of regional all-hazard planning for catastrophic events, including the development of integrated planning communities, plans, protocols, and procedures to manage a catastrophic event. The collection of information for the RCPGP is mandated by Title III of the Consolidated Security, Disaster Assistance, and Continuing Appropriations Act, 2009 (Pub. L. 110-329). This program was originally created under the general grant and cooperative agreement making powers of the Secretary under 6 U.S.C. 112(b)(2).

The RCPGP information is to be used to produce improved catastrophic plans and planning processes by the states and local jurisdictions involved. Specifically, the plans and planning must address shortcomings in existing plans to address regional catastrophic planning issues, including the establishment of a regional network of plans to address catastrophic events. Plans will include a process for establishing an incident command structure and will also identify roles and responsibilities for each organization. Additionally, plans will identify detailed resource, personnel, and asset allocations in order to execute strategic objectives and translate strategic priorities into operational execution. These plans should apply existing capabilities and assist in assessing gaps in needed capabilities.

Collection of Information

Title: FEMA Preparedness Grants: Regional Catastrophic Preparedness Grant Program (RCPGP).

Type of Information Collection: New information collection.

OMB Number: 1660-NEW.

Form Titles and Numbers: FEMA Form 089-19, RCPGP Investment Justification Template; FEMA Form 089-26, RCGCP (Sample) Detailed Project Plan Template; FEMA Form 089-17, RCPT Membership List.

Abstract: The RCPGP is an important tool among a comprehensive set of measures to help strengthen the Nation against risks associated with potential terrorist attacks. DHS/FEMA uses the information to evaluate applicants' familiarity with the national preparedness architecture and identify how elements of this architecture have been incorporated into regional/state/local planning, operations, and investments.

Affected Public: State, Local or Tribal Government.

Estimated Total Annual Burden Hours: 1,762 hours.

Table A.12—Estimated Annualized Burden Hours and Costs
Type of respondent | Form name/form number | Number of respondents | Number of responses per respondent | Annual number of responses | Avg. burden per response (in hours) | Total annual burden (in hours) | Avg. hourly wage rate* | Total annual respondent cost
State, Local or Tribal Government | RCPGP Investment Justification Template, FEMA Form 089-19 | 10 | 1 | 10 | 120 | 1,200 | $50.08 | $60,096.00
State, Local or Tribal Government | RCPGP (Sample) Detailed Project Plan Template, FEMA Form 089-26 | 10 | 1 | 10 | 40 | 400 | 50.08 | 20,032.00
State, Local or Tribal Government | Regional Catastrophic Planning Team (RCPT) Charter Guidelines | 10 | 1 | 10 | 16 | 160 | 50.08 | 8,012.80
State, Local or Tribal Government | RCPT Membership List, FEMA Form 089-17 | 10 | 1 | 10 | 0.2 hr. | 2 | 50.08 | 100.16
Total |  |  |  | 40 |  | 1,762 |  | 88,240.96

Estimated Cost: There is no annual reporting recordkeeping cost associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27544 Filed 11-16-09; 8:45 am]

BILLING CODE 9111-46-P